FEDERAL ELECTION COMMISSION

Sunshine Act Notices

AGENCY: Federal Election Commission.

DATE & TIME: Friday, January 29, 2010, at 10 a.m.

PLACE: 999 E Street, NW., Washington, DC (Ninth Floor).

STATUS: This Meeting Will Be Open to the Public.

ITEMS TO BE DISCUSSED:

Correction and Approval of Minutes

Draft Advisory Opinion 2009-30: TechNet by its counsel, Marc E. Elias and Rebecca H. Gordon.

Draft Advisory Opinion 2009-31: MAXIMUS, Inc. by its counsel, Kirk L. Jowers and Matthew T. Sanderson.

Draft Advisory Opinion 2009-32: Dr. Richard L. Jorgensen.

Management and Administrative Matters

Individuals who plan to attend and require special assistance, such as sign language interpretation or other reasonable accommodations, should contact Darlene Harris, Deputy Commission Secretary, at (202) 694-1040, at least 72 hours prior to the hearing date.

PERSON TO CONTACT FOR INFORMATION: Judith Ingram, Press Officer, Telephone: (202) 694-1220.

Darlene Harris,
Deputy Secretary of the Commission.

[FR Doc. 2010-1563 Filed 1-27-10; 8:45 am]

BILLING CODE 6715-01-M